DEPARTMENT OF ENERGY

Federal Energy Regulatory Commission

Combined Notice of Filings #1

Take notice that the Commission received the following electric rate filings:

Docket Numbers: ER15-1456-007; ER10-2615-012; ER10-2934-013; ER10-2959-014; ER11-2235-002; ER11-3859-018; ER11-4634-007; ER13-450-005; ER14-1699-008; ER15-1457-007; ER16-999-007; ER17-1605-001; ER17-436-006; ER17-437-009; ER18-920-002.

Applicants: Beaver Falls, L.L.C., Chambers Cogeneration, Limited Partnership, Dighton Power, LLC, Dominion Energy Fairless, LLC, Dominion Energy Manchester Street, Inc., Greenleaf Energy Unit 1 LLC, Hazleton Generation LLC, Logan Generating Company, L.P., Marco DM Holdings, L.L.C., Marcus Hook Energy, L.P., Marcus Hook 50, L.P., Milford Power, LLC, Plum Point Energy Associates, LLC, Plum Point Services Company, LLC, Syracuse, L.L.C.

Description: Notice of Change in Status of the SEG MBR Entities.

Filed Date: 1/15/19.

Accession Number: 20190115-5285.

Comments Due: 5 p.m. ET 2/5/19.

Docket Numbers: ER19-448-001.

Applicants: Appalachian Power Company.

Description: Tariff Amendment: OATT-Revise Attachment K, AEP Texas Inc. Rate Update Amendment to be effective 12/31/9998.

Filed Date: 12/20/18.

Accession Number: 20181220-5215.

Comments Due: 5 p.m. ET 1/24/19.

Docket Numbers: ER19-457-001.

Applicants: Southwest Power Pool, Inc.

Description: Tariff Amendment: Amended Filing—Otter Tail Power Company Network Customer Transmission Credits to be effective 2/1/2019.

Filed Date: 1/16/19.

Accession Number: 20190116-5105.

Comments Due: 5 p.m. ET 2/6/19.

Docket Numbers: ER19-824-000.

Applicants: Florida Power & Light Company.

Description: Tariff Cancellation: Notice of Termination of FPL-Vero Beach NITSA No. 264 to be effective 12/17/2018.

Filed Date: 1/16/19.

Accession Number: 20190116-5123.

Comments Due: 5 p.m. ET 2/6/19.

Docket Numbers: ER19-825-000.

Applicants: Southwest Power Pool, Inc.

Description: § 205(d) Rate Filing: Revisions to Attachment C to Enhance Available Flowgate Capacity Calculations to be effective 3/18/2019.

Filed Date: 1/16/19.

Accession Number: 20190116-5137.

Comments Due: 5 p.m. ET 2/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2019.
Nathaniel J. Davis, Sr.,
Deputy Secretary.

[FR Doc. 2019-00526 Filed 1-30-19; 8:45 am]

BILLING CODE 6717-01-P